DEPARTMENT OF THE INTERIOR

National Park Service

[NPS-WASO-NAGPRA-NPS0036250; PPWOCRADN0-PCU00RP14.R50000]

Notice of Inventory Completion: Utah Field House of Natural History State Park Museum, Vernal, UT

AGENCY: Utah State Parks.

ACTION: Notice.

SUMMARY: In accordance with the Native American Graves Protection and Repatriation Act (NAGPRA), the Utah Field House of Natural History State Park Museum (UFHNHM) has completed an inventory of human remains and associated funerary objects and has determined that there is no cultural affiliation between the human remains and associated funerary objects and any Indian Tribe. The human remains and associated funerary objects were removed from Uintah County, UT.

DATES: Disposition of the human remains and associated funerary objects in this notice may occur on or after August 28, 2023.

ADDRESSES: John Foster, Museum Curator, Utah Field House of Natural History State Park Museum, 496 East Main Street, Vernal, UT 84078, telephone (435) 789-3799, email johnfoster@utah.gov.

SUPPLEMENTARY INFORMATION: This notice is published as part of the National Park Service's administrative responsibilities under NAGPRA. The determinations in this notice are the sole responsibility of the UFHNHM. The National Park Service is not responsible for the determinations in this notice. Additional information on the determinations in this notice, including the results of consultation, can be found in the inventory or related records held by the UFHNHM.

Description

Human remains representing, at minimum, one individual were removed from private land in Uintah, County, UT. The mummified remains belong to a child approximately 5-6 years old and of unknown sex. Overall, preservation is excellent; the hands and right arm are the only absent elements. This individual displayed several characteristics associated with probable Native American ancestry. Native American craniofacial morphology includes wide infraorbital breadth, a medium sized narrow nasal aperture with a dull nasal sill, and an overall round skull morphology. Shoveling is present in the permanent upper right I1, which is a dental variation that is strongly associated with Native American or Asian ancestry; >90% of individuals with this trait are of Asian or Native American ancestry. In addition to the skeletal and dental indicators of Native American ancestry, much of the clothing found on and with the human remains (buckskin leggings and moccasins) is consistent with Native American culture. The seven associated funerary objects are one coarse textured fabric shirt with patch, one lot consisting of fragments of a dark blue cotton shirt with small flower designs, one pair of buckskin leggings, one pair of leather moccasins, one animal hide with hair still attached, one gunpowder horn, and one muzzle loading rifle with an octagon shaped barrel.

Aboriginal Land

The human remains and associated funerary objects in this notice were removed from known geographic locations. These locations are the aboriginal lands of one or more Indian Tribes. The following information was used to identify the aboriginal land: a final judgment of the Indian Claims Commission or the United States Court of Claims.

Determinations

Pursuant to NAGPRA and its implementing regulations, and after consultation with the appropriate Indian Tribes, the UFHNHM has determined that:

• The human remains described in this notice represent the physical remains of one individual of Native American ancestry.

• The seven objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Ute Indian Tribe of the Uintah & Ouray Reservation, Utah.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after August 28, 2023. If competing requests for disposition are received, the Utah Field House of Natural History State Park Museum must determine the most appropriate requestor prior to disposition. Requests for joint disposition of the human remains and associated funerary objects are considered a single request and not competing requests. The Utah Field House of Natural History State Park Museum is responsible for sending a copy of this notice to the Indian Tribe identified in this notice.

Authority: Native American Graves Protection and Repatriation Act, 25 U.S.C. 3003, and the implementing regulations, 43 CFR 10.9 and 10.11.

Dated: July 19, 2023.
Melanie O'Brien,
Manager, National NAGPRA Program.

[FR Doc. 2023-16062 Filed 7-27-23; 8:45 am]

BILLING CODE 4312-52-P